DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 2, 2002, through March 29, 2002.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation, Office of Special Programs, 5600 Fishers Lane, Room 8A-46, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Graham Parker on behalf of Keenan Parker, Boston, Massachusetts, Court of Federal Claims Number 02-0002V

2. Barbara Bishop Sufian, New York, New York, Court of Federal Claims Number 02-0003V

3. Sarah and Jonathan Nash on behalf of Laura Nash, Braintree, Massachusetts, Court of Federal Claims Number 02-0004V

4. Denise Kretz on behalf of Robert Kretz, Quincy, Massachusetts, Court of Federal Claims Number 02-0006V

5. Joann and Vadim Mostovoy on behalf of Victor Jared Mostovoy, New York, New York, Court of Federal Claims Number 02-0010V

6. Desiree Juraniec on behalf of Cassidy Juraniec, Boston, Massachusetts, Court of Federal Claims Number 02-0014V

7. Tammy J. Brown, New Hartford, Connecticut, Court of Federal Claims Number 02-0015V

8. Kerry Shafer on behalf of Keegan Shafer, Boston, Massachusetts, Court of Federal Claims Number 02-0027V

9. Alexandria Cannell on behalf of Isabelle Cannell, Boston, Massachusetts, Court of Federal Claims Number 02-0028V

10. Ernest Kramer on behalf of Christopher Kramer, Boston, Massachusetts, Court of Federal Claims Number 02-0032V

11. Phillip R. Lujan, Glendale, California, Court of Federal Claims Number 02-0034V

12. Donna McKinley on behalf of Antonio Francisco Saavedra, Nashua, New Hampshire, Court of Federal Claims Number 02-0039V

13. Eugene A. Martinez on behalf of Brad Martinez, Deceased, Orlando Beach, Florida, Court of Federal Claims Number 02-0040V

14. Sarah and Billy Sprock on behalf of Brandon Sprock, Sheldon, Iowa, Court of Federal Claims Number 02-0044V

15. Janice and Marc Lehner on behalf of Erin Pauline Lehner, Derry, New Hampshire, Court of Federal Claims Number 02-0046V

16. Sheryl Schwartz on behalf of Alec Schwartz, Fairfax, Virginia, Court of Federal Claims Number 02-0048V

17. Amy and Dennis Colannino on behalf of Adam Colannino, Vienna, Virginia, Court of Federal Claims Number 02-0049V

18. Heather Waller on behalf of Kaitlyn Waller, Vienna, Virginia, Court of Federal Claims Number 02-0050V

19. Carol Kessler on behalf of Mikaela Kessler, Vienna, Virginia, Court of Federal Claims Number 02-0051V

20. David Russell on behalf of Lauren Russell, Vienna, Virginia, Court of Federal Claims Number 02-0052V

21. Laurie and Richard Coppersmith on behalf of Laurel Coppersmith, Mayfield Heights, Ohio, Court of Federal Claims Number 02-0058V

22. Heidi and Scott Billings on behalf of Matthew Billings, West Buxton, Maine, Court of Federal Claims Number 02-0065V

23. Kim Waldele on behalf of Gabriella Waldele, Boston, Massachusetts, Court of Federal Claims Number 02-0067V

24. Gail Cahill on behalf of Christian Velez, Vienna, Virginia, Court of Federal Claims Number 02-0072V

25. Kathleen Hall on behalf of Zechariah Hall, Baldwinsville, New York, Court of Federal Claims Number 02-0073V

26. Alicia Booker on behalf of Kia Janae Cobbs, Houston, Texas, Court of Federal Claims Number 02-0075V

27. Marianne and Shawn Look on behalf of Camden S. Look, Commerce Township, Michigan, Court of Federal Claims Number 02-0076V

28. Melissa and Devin Jones on behalf of Emma Jones, Liberty, Missouri, Court of Federal Claims Number 02-0080V

29. Joyce and Maurice Robinson on behalf of Maurice L. Robinson, Frederick, Maryland, Court of Federal Claims Number 02-0086V

30. Sue Anna Harwood, Corpus Christi, Texas, Court of Federal Claims Number 02-0087V

31. Kristiana Wienken on behalf of Jonathan Wienken, Vienna, Virginia, Court of Federal Claims Number 02-0090V

32. Michele Hailey on behalf of Tyler Hailey, Vienna, Virginia, Court of Federal Claims Number 02-0091V

33. Leandra and Todd Hanson on behalf of Joel Hanson, Vienna, Virginia, Court of Federal Claims Number 02-0092V

34. Deborah Smith on behalf of Ryan Christopher Smith, Yuma, Arizona, Court of Federal Claims Number 02-0093V

35. Bethany Britton on behalf of Piers Britton, Vienna, Virginia, Court of Federal Claims Number 02-0094V

36. Tami and Wayne Fuesel on behalf of Jessica Marie Fuesel, Vienna, Virginia, Court of Federal Claims Number 02-0095V

37. Gena D. Ankle, Miami, Florida, Court of Federal Claims Number 02-0097V

38. Gary Kompothecras on behalf of Sara Alice Kompothecras, Vienna, Virginia, Court of Federal Claims Number 02-0110V

39. Yolanda Medina on behalf of Elliott Quinones, Freehold, New Jersey, Court of Federal Claims Number 02-0111V

40. Claudia Dennis on behalf of Joseph Dennis, Boston, Massachusetts, Court of Federal Claims Number 02-0112V

41. Nicole and Ken Schweisthal on behalf of Michael Schweisthal, Naperville, Illinois, Court of Federal Claims Number 02-0113V

42. Brenda Tibbs on behalf of Randy Boyle, Vienna, Virginia, Court of Federal Claims Number 02-0114V

43. Cynthia Ruybal Morgan, Colorado Springs, Colorado, Court of Federal Claims Number 02-0120V

44. Lanita and Russell Cunningham on behalf of Ashley Cunningham Youngstown, Ohio, Court of Federal Claims Number 02-0124V

45. Joanne McCormack on behalf of Colin McCormack, Milwaukee, Wisconsin, Court of Federal Claims Number 02-0129V

46. Kathy Rhodomoyer on behalf of Raymond Rhodomoyer, Boston, Massachusetts, Court of Federal Claims Number 02-0130V

47. Marianne and Andrew Baker on behalf of Brendan Baker, Kalamazoo, Michigan, Court of Federal Claims Number 02-0138V

48. Dennis Jeffers on behalf of Mary Jane Jeffers, Fort Bragg, North Carolina, Court of Federal Claims Number 02-0143V

49. Teri Bickley on behalf of Olivia Bickley, Vienna, Virginia, Court of Federal Claims Number 02-0145V

50. Elizabeth and Louis Carnevale on behalf of Joseph M. Carnevale, Vienna, Virginia, Court of Federal Claims Number 02-0146V

51. Ann Heinke and David McCoy on behalf of Timothy Dean McCoy, Loveland, Colorado, Court of Federal Claims Number 02-0152V

52. Mieko Hester on behalf of Joseph Rodriguez, Jr., Boston, Massachusetts, Court of Federal Claims Number 02-0154V

53. Catina Haverlock on behalf of Adam Haverlock, Boston, Massachusetts, Court of Federal Claims Number 02-0155V

54. Gina Manderfeld, Laramie, Wyoming, Court of Federal Claims Number 02-0156V

55. Daniel Baggio on behalf of Giordano P. Baggio, Boston, Massachusetts, Court of Federal Claims Number 02-0157V

56. Daniel Baggio on behalf of Daniel B. Baggio, Boston, Massachusetts, Court of Federal Claims Number 02-0158V

57. Linda Mallam on behalf of Jonathan Mallam, Boston, Massachusetts, Court of Federal Claims Number 02-0159V

58. Beth Rosenberg on behalf of Jackson Rubin, Boston, Massachusetts, Court of Federal Claims Number 02-0160V

59. Bonnie and Alan Shelton on behalf of Casey Jordan Shelton, Vienna, Virginia, Court of Federal Claims Number 02-0161V

60. Christina DeLong, Vienna, Virginia, Court of Federal Claims Number 02-0162V

61. Laura Gibson on behalf of Riley T. Gibson, Jr., Vienna, Virginia, Court of Federal Claims Number 02-0163V

62. Frederick Snipes on behalf of Kaylin D. Snipes, Vienna, Virginia, Court of Federal Claims Number 02-0164V

63. Deborah and Ronald Elliott on behalf of Makayla Morgan Elliott, Granville, Ohio, Court of Federal Claims Number 02-0172V

64. Kelley and Jim O'Clair on behalf of Michael O'Clair, Manchester, New Hampshire, Court of Federal Claims Number 02-0181V

65. Shannon and William Vessels on behalf of Joshua Vessels, Manchester, New Hampshire, Court of Federal Claims Number 02-0182V

66. Lynn Joyce Thompson on behalf of Alexander Martin Burris, Deceased, Carlsbad, New Mexico, Court of Federal Claims Number 02-0183V

67. Leslee Maust on behalf of Nathan Maust, Boston, Massachusetts, Court of Federal Claims Number 02-0184V

68. Suzanne Monez, Columbus, Ohio, Court of Federal Claims Number, 02-0185V

69. Paul Lambert and Alice Mese on behalf of Katie Nicole Lambert, Deceased, Slidell, Louisiana, Court of Federal Claims Number 02-0189V

70. LaTonya and Samuel Williams on behalf of Brandon Williams, Pensacola, Florida, Court of Federal Claims Number 02-0191V

71. Linda Stott, Wrentham, Massachusetts, Court of Federal Claims Number 02-0192V

72. Jennifer and Dan Conaway on behalf of Matthew Conaway, Vienna, Virginia, Court of Federal Claims Number 02-0193V

73. Tammy Jose on behalf of Emelita Jose, Summerville, South Carolina, Court of Federal Claims Number 02-0194V

74. JoAnn Goodman on behalf of Russell L. Goodman, Alexandria, Virginia, Court of Federal Claims Number 02-0201V

75. Katina Eubanks on behalf of Kaitlyn L. Eubanks, Alexandria, Virginia, Court of Federal Claims Number 02-0202V

76. Theodore J. Dayharsh, Vienna, Virginia, Court of Federal Claims Number 02-0203V

77. Lisa Salom on behalf of Jaime Michael Salom, Vienna, Virginia, Court of Federal Claims Number 02-0204V

78. Kathleen and Timothy Begley on behalf of Liam Begley, Newburyport, Massachusetts, Court of Federal Claims Number 02-0206V

79. Dorothy Verdon on behalf of Robert Verdon, Nashua, New Hampshire, Court of Federal Claims Number 02-0208V

80. Michael Jones and Christan Basile-Jones on behalf of Michael P. Jones, Kennebunk, Maine, Court of Federal Claims Number 02-0209V

81. Dawn O'Neill on behalf of John P. O'Neill III, Nashua, New Hampshire, Court of Federal Claims Number 02-0210V

82. Janet Cardillo on behalf of Grace Cardillo, Boston, Massachusetts, Court of Federal Claims Number 02-0211V

83. Susanne and Michael Conroy on behalf of Rylie Veronica Conroy, Waverly, Virginia, Court of Federal Claims Number 02-0212V

84. Angela Robinson on behalf of Brittany Robinson, Panama City, Florida, Court of Federal Claims Number 02-0218V

85. Andrea and Jose Valle on behalf of Justice Valle, Miami, Florida, Court of Federal Claims Number 02-0220V

86. Michele Kupersmith on behalf of Samuel Kupersmith, Boston, Massachusetts, Court of Federal Claims Number 02-0221V

87. Caroline Payne on behalf of Andie Grace Payne, Boston, Massachusetts, Court of Federal Claims Number 02-0222V

88. Douglas Kelley on behalf of Ryan Kelley, Boston, Massachusetts, Court of Federal Claims Number 02-0223V

89. Kristin and Gordon Welch on behalf of Corey Welch, Bedford, New Hampshire, Court of Federal Claims Number 02-0224V

90. Linda Reid on behalf of Anthony Reid, Vienna, Virginia, Court of Federal Claims Number 02-0226V

91. Linda Reid on behalf of Alexis Reid, Vienna, Virginia, Court of Federal Claims Number 02-0227V

92. Patricia Cramer on behalf of Karli Cramer, Mays Landing, New Jersey, Court of Federal Claims Number 02-0228V

93. Michael Chmura on behalf of Evan Chmura, Cambridge, Massachusetts, Court of Federal Claims Number 02-0229V

94. Michele Frazier on behalf of Anna Schuppenhauer, Jamestown, New York, Court of Federal Claims Number 02-0233V

95. Kellie and Ron Miller on behalf of Avery Hope Miller, Elizabethtown, Kentucky, Court of Federal Claims Number 02-0235V

96. Dale Denault and Charlene Gillenwater on behalf of Destiny Denault, Lewistown, Pennsylvania, Court of Federal Claims Number 02-0236V

97. Margaret and Greg Wilson on behalf of William Mitchell Wilson, Lexington, Kentucky, Court of Federal Claims Number 02-0239V

98. Brenda and Charles Gerard on behalf of Joseph James Gerard, Maplewood, Minnesota, Court of Federal Claims Number 02-0242V

99. Tracie and Louis Kiefer on behalf of Joseph August Kiefer, Raleigh, North Carolina, Court of Federal Claims Number 02-0243V

100. Shirley J. Nelson on behalf of Jennifer Ashley Ray, Cleveland, Ohio, Court of Federal Claims Number 02-0244V

101. Drena and Keith Travis on behalf of Keith Antonio Travis, Chicago, Illinois, Court of Federal Claims Number 02-0245V

102. Samantha and Travis Warren on behalf of Travis Gabriel Warren, Houston, Texas, Court of Federal Claims Number 02-0247V

Dated: June 24, 2002.
Elizabeth M. Duke,
Administrator.

[FR Doc. 02-16591 Filed 7-1-02; 8:45 am]

BILLING CODE 4165-15-P